DEPARTMENT OF ENERGY

Federal Energy Regulatory Commission

Notice of Intent to File Application for a New License

April 13, 2000.

Take notice that the following notice of intent has been filed with the Commission and is available for public inspection:

a. Type of filing: Notice of Intent to File an Application for New License.

b. Project No.: 2067.

c. Date filed: July 30, 1999.

d. Submitted By: Oakdale Irrigation District and Sam Joaquin Irrigation District, current licensees.

e. Name of Project: Tulloch.

f. Location: On the Stanislaus River in Tuolumne and Calaveras Counties, California.

g. Filed Pursuant to: Section 15 of the Federal Power Act, 18 CFR 16.6.

h. Pursuant to Section 16.19 of the Commission's regulations, the licensee is required to make available the information described in Section 16.7 of the regulations. Such information is available from the licensee at Tri-Dam Project, 31885 Old Strawberry Road, Strawberry, California 95375. Interested parties can contact Steve Felte on (209) 965-3996.

i. FERC Contact: Héctor M. Pérez, (202) 219-2843, hector.perez@ ferc.fed.us.

j. Expiration Date of Current License: December 31, 2004.

k. The project consists of a dam and reservoir, a penstock, a powerhouse with an installed capacity of 8,550 kilowatts, and a switchyard.

l. The licensee states its unequivocal intent to submit an application for a new license for Project No. 2067. Pursuant to 18 CFR 16.9(b)(1) each application for a new license and any competing license applications must be filed with the Commission at least 24 months prior to the expiration of the existing license. All applications for license for this project must be filed by December 31, 2002.

m. A copy of the notice of intent is available for inspection and reproduction at the Commission's Public Reference Room, located at 888 First Street, NE, Room 2A, Washington, DC 20426, or by calling (202) 208-1371. The notice may be viewed on http://www.ferc.fed.us/online/rims.htm (call (202) 208-2222 for assistance). A copy is also available for inspection and reproduction at the address in item h above.

David P. Boergers,
Secretary.

[FR Doc. 00-9762 Filed 4-18-00; 8:45 am]

BILLING CODE 6717-01-M